DEPARTMENT OF HOUSING AND URBAN DEVELOPMENT

[Docket No. FR-4529-N-05 ]

Notice of Submission of Proposed Information Collection to OMB; Emergency Comment Request

AGENCY: Office of the Assistant Secretary for Housing—Federal Housing Commissioner, HUD.

ACTION: Notice.

SUMMARY: The proposed information collection requirement described below has been submitted to the Office of Management and Budget (OMB) for emergency review and approval, as required by the Paperwork Reduction Act. The Department is soliciting public comments on the subject proposal.

DATES: Comments Due Date: April 8, 2003.

ADDRESSES: Interested persons are invited to submit comments regarding this proposal. Comments must be received within seven (7) days from the date of this Notice. Comments should refer to the proposal by name and should be sent to: Lauren Wittenberg, HUD Desk Officer, Office of Management and Budget, New Executive Office Building, Washington, DC 20503, lauren_wittenberg@opm.eop.gov, Fax: (202) 395-6974.

FOR FURTHER INFORMATION CONTACT: Wayne Eddins, Reports Management Officer, Department of Housing and Urban Development, 451 Seventh Street, SW., Washington, DC 20410, telephone (202) 708-0050. This is not a toll-free number. Copies of available documents submitted to OMB may be obtained from Mr. Eddins.

SUPPLEMENTARY INFORMATION: This Notice informs the public that the Department of Housing and Urban Development (HUD) has submitted to OMB, for emergency processing, an information collection package with respect to a guide format which specifies the components of a legal opinion required by the Department in connection with the insurance of mortgage loans upon multifamily rental projects and health care facilities under Title II of the National Housing Act, 12 U.S.C. 1702, et seq. The guide form was originally prepared in 1994 in view of changes in opinion practice. This guide form has been used in the past to establish the parameters of the opinion which HUD requires the counsel to the mortgagor to submit to HUD and the mortgagee. The guide clearly articulates those matters upon which HUD requires an opinion from private counsel, as well as those matters upon which confirmations are required. The guide also contains detailed instructions pertaining to the form as well as a format for certifications by the mortgagor as to matters particularly within the knowledge of the mortgagor upon which its legal counsel relies in rendering the opinion.

The Department regards the mortgagor's attorney as a crucial, central figure in the process of preparing and executing the legal and administrative documents necessary to achieve a closing in those multifamily rental and health care mortgage insurance programs where a note is endorsed for mortgage insurance by the Department. The existing guide form has expired and expedited processing of the guide is necessary to facilitate timely closings of pending multifamily mortgage insurance transactions. To the extent that the guide represents any “collection of information,” the process is necessary to ensure the Department that the attorney representing the mortgagor has followed the otherwise specified requirements of the Department and to ensure the Department that the attorney has exercised an acceptable degree of due diligence in representing the client and in rendering the opinion to the mortgagee and HUD. The extent of due diligence expected to be performed under the guide is not substantially different from what HUD had anticipated under Form 1725 or from what qualified counsel, in fact, perform in conventional financing transactions.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Guide for Opinion of Mortgagor's Counsel.

Office: The Office of General Counsel.

OMB Control Number: 2510-0010.

Description of the need for the information and proposed use:The opinion is required to provide comfort to HUD and the mortgagee in multifamily rental and health care facility mortgage insurance transactions and similarly to HUD and owners in the capital advance transactions.

Form Number: Guide.

Members of affected public: Counsel to mortgagors of multifamily rental projects and health care facilities upon which the mortgage loans are insured by HUD.

Estimation of the total numbers of hours needed to prepare the information collection including number of respondents, frequency of response, and hours of response:

Number of respondents | × | Frequency of response | = | Hours per response | = | Burden hours
700 |  | 1 |  | 1 |  | 700

Total Estimated Burden Hours: 700.

Status: Expired.

Authority: The Paperwork Reduction Act of 1995, 44 U.S.C. chapter 35, as amended.

Dated: March 26, 2003.
Camille Acevedo,
Associate General Counsel.

[FR Doc. 03-7707 Filed 3-31-03; 8:45 am]

BILLING CODE 4210-67-P